DEPARTMENT OF AGRICULTURE

Rural Utilities Service

Information Collection Activity; Comment Request

AGENCY: Rural Utilities Service, USDA.

ACTION: Notice and request for comments.

SUMMARY: In accordance with the Paperwork Reduction Act of 1995 (44 U.S.C. Chapter 35, as amended), the Rural Utilities Service (RUS) invites comments on this information collection for which RUS intends to request approval from the Office of Management and Budget (OMB).

DATES: Comments on this notice must be received by November 27, 2000.

FOR FURTHER INFORMATION CONTACT: F. Lamont Heppe, Jr., Program Development & Regulatory Analysis, Rural Utilities Service, USDA, 1400 Independence Ave., SW., STOP 1522, Room 4034 South Building, Washington, D.C. 20250-1522. Telephone: (202) 720-0736. FAX: (202) 720-4120.

SUPPLEMENTARY INFORMATION: Title: 7 CFR Part 1794, Environmental Policies and Procedures.

OMB Control Number: 0572-0117.

Type of Request: Extension of a previously approved collection with change.

Abstract: The information collection contained in this rule are requirements prescribed the National Environmental Policy Act of 1969 (NEPA), as amended (42 U.S.C. 4321-4346), the Council on Environmental Quality (CEQ) Regulations for Implementing the Procedural Provisions of NEPA (40 CFR parts 1500-1508), and certain related Federal environmental laws, statutes, regulations, and Executive Orders.

The major events which influenced the promulgation of the revisions to this rule was the 1994 reorganization of the U.S. Department of Agriculture, which transferred the water and waste program from the former Farmers Home Administration to RUS, reforms within the electric and telecommunications programs, and fundamental changes in RUS' implementation of the CEQ regulations.

RUS applicants provide environmental documentation, as prescribed by the rule, to assure that policy contained in NEPA is followed. The burden varies depending on the type, size, and location of each project, which then prescribes the type of information collection involved. The collection of information is only that information that is essential for RUS to provide environmental safeguards and to comply with NEPA as implemented by the CEQ regulations.

Estimate of Burden: Public reporting burden for this collection of information is estimated to average 229 hours per response.

Respondents: Business or other for-profit and non-profit institutions.

Estimated Number of Respondents: 600.

Estimated Number of Responses per Respondent: 3.

Estimate Total Annual Burden on Respondents: 440,000 hours.

Copies of this information collection can be obtained from Bob Turner, Program Development and Regulatory Analysis, Rural Utilities Service at (202) 720-0696.

Comments are invited on (a) whether the collection of information is necessary for the proper performance of the functions of the agency, including whether the information will have practical utility; (b) the accuracy of the agency's estimate of burden including the validity of the methodology and assumption used; (c) ways to enhance the quality, utility and clarity of the information to be collected; and (d) ways to minimize the burden of the collection of information on those who are to respond, including through the use of appropriate automated, electronic, mechanical, or other technological collection techniques on other forms of information technology.

All responses to this notice will be summarized and included in the request for OMB approval. All comments will also become a matter of public record.

Dated: September 21, 2000.
Christopher A. McLean,
Administrator, Rural Utilities Service.

[FR Doc. 00-24924 Filed 9-27-00; 8:45 am]

BILLING CODE 3410-15-P